DEPARTMENT OF LABOR

Employment and Training Administration

[TA-W-52,323]

Stanek Tool Corporation, New Berlin, WI; Notice of Termination of Investigation

Pursuant to Section 221 of the Trade Act of 1974, as amended, an investigation was initiated on July 16, 2003, in response to a petition filed by a company official on behalf of workers at Stanek Tool Corporation, New Berlin, Wisconsin.

The company official has requested that the petition be withdrawn. Consequently, further investigation would serve no purpose and the investigation under this petition has been terminated.

Signed at Washington, DC, this 29th day of July 2003.
Linda G. Poole,
Certifying Officer, Division of Trade Adjustment Assistance.

[FR Doc. 03-20724 Filed 8-13-03; 8:45 am]

BILLING CODE 4510-30-P